OFFICE OF PERSONNEL MANAGEMENT

[OMB NO. 3206-0150]

Submission for OMB Review; Comment Request for Revised Information Collection: Fingerprint Charts: Standard Form (SF) 87 AND SF 87A

AGENCY: U.S. Office of Personnel Management.

ACTION: Notice.

SUMMARY: In accordance with the Paperwork Reduction Act of 1995 (Pub. L. 104-13) this notice announces that the U.S. Office of Personnel Management (OPM) has submitted to the Office of Management and Budget (OMB) a request for review and clearance of the revised collection of information collection (Fingerprint Charts SF 87 and SF 87A; OMB No. 3206-0150). The Fingerprint Charts are used in processing fingerprint checks submitted to the Federal Bureau of Investigation (FBI) to assist in determining whether an applicant is suitable for Federal employment or should be granted a security clearance.

The SF 87 and SF 87A are completed by respondents for, or incumbents of, Government positions or by military personnel. The SF 87 and SF 87A are used to conduct a criminal history check in connection with background investigations to establish that such persons are:

• Suitable for employment or retention in the position;

• Suitable for employment or retention in a public trust position;

• Suitable for employment or retention in a national security position; or

• Eligible for access to classified national security information.

We received one comment as a result of the 60-day Federal Register Notice, published in the Federal Register on June 23, 2008. The comment was received from the Internal Revenue Service regarding contractor use of the SF 87 and SF 87A. Contractors do not use the SF 87 and 87A—they use the FD 258. The Federal Register notice was updated to reflect this fact. We did not receive any other comments. Therefore, we determined that this collection of information continues to be necessary for the proper performance of functions of the OPM and the Federal Investigative Services Division, which administers background investigations. Further, we believe that our estimate of the public burden of this collection of information is accurate and based on valid assumptions and methodology.

It is estimated that 196,540 SF 87 or SF 87A inquiries are sent to individuals annually. Each form takes approximately five minutes to complete. The estimated annual burden is approximately 16,380 hours.

For copies of this proposal, contact Mary-Kay Brewer at (703) 305-1002, FAX (703) 603-0576 or via e-mail at marykay.brewer@opm.gov. Please include contact information with your request.

DATES: Comments on this proposal should be received within 30 calendar days from the date of this publication.

ADDRESSES: Send or deliver comments to:

Kathy Dillaman, Associate Director, Federal Investigative Services Division, U.S. Office of Personnel Management, 1900 E. Street, Room 2H31, Washington, DC 20415; and

John W. Barkhamer, OMB Desk Officer, Office of Information and Regulatory Affairs, Office of Management and Budget, New Executive Office Building, 725 17th Street, NW., Room 10235, Washington, DC 20503.

FOR INFORMATION REGARDING ADMINISTRATIVE COORDINATION CONTACT: Mary-Kay Brewer, Program Analyst, Operational Policy Group, Federal Investigative Services Division, U.S. Office of Personnel Management, 703-305-1002.

Kathie Ann Whipple,
Acting Director, U.S. Office of Personnel Management.

[FR Doc. E9-8523 Filed 4-13-09; 8:45 am]

BILLING CODE 6325-53-P